ENVIRONMENTAL PROTECTION AGENCY

40 CFR Part 52

[EPA-R05-OAR-2006-0609; FRL-9123-4]

Approval and Promulgation of Air Quality Implementation Plans; Wisconsin; NSR Reform Regulations—Notice of Action Denying Petition for Reconsideration and Request for Administrative Stay

AGENCY: Environmental Protection Agency (EPA).

ACTION: Final rule; action denying petition for reconsideration and request for administrative stay.

SUMMARY: EPA is providing notice that it has responded to a petition for reconsideration and a request for an administrative stay of certain provisions of the final rule titled, “Approval and Promulgation of Air Quality Implementation Plans; Wisconsin; NSR Reform Regulations, Rule AM-06-04” published December 17, 2008. The final rule approved certain revisions to Wisconsin's Prevention of Significant Deterioration and Nonattainment New Source Review (NSR) construction permit programs, which Wisconsin submitted on May 25, 2006. The Wisconsin Department of Natural Resources sought approval of rule AM-06-04 to implement the NSR Reform provisions that were not vacated by the United States Court of Appeals for the District of Columbia (DC Circuit) in New York v. EPA. On February 17, 2009, EPA received a petition for reconsideration pursuant to section 307(d)(7)(B) of the Clean Air Act (CAA) from the Natural Resources Defense Council (NRDC) and Sierra Club. The petition also requested that EPA stay implementation of certain provisions of the final rule pending its reconsideration. The EPA considered the petition for reconsideration and request for an administrative stay, along with information contained in the rulemaking docket, in reaching a decision on both the petition and request for a stay. The EPA Administrator, Lisa P. Jackson, denied both the petition for reconsideration and request for stay in letters to the petitioners dated January 19, 2010.

FOR FURTHER INFORMATION CONTACT: Mr. David Painter, Air Quality Policy Division, (C 504-03), U.S. Environmental Protection Agency, Research Triangle Park, NC 27711; telephone number: (919) 541-5515; or e-mail address: painter.david@epa.gov.

SUPPLEMENTARY INFORMATION:

I. How Can I Get Copies of This Document and Other Related Information?

This Federal Register notice, the petition for reconsideration, and the letter denying the petition for reconsideration and request for an administrative stay during the reconsideration are available in the docket that has been established for this action under Docket ID No. EPA-R05-OAR-2006-0609. All documents in the docket are listed on the http://www.regulations.gov Web site. Publicly available docket materials are available in hard copy at: Environmental Protection Agency, Region 5, Air and Radiation Division, 77 West Jackson Boulevard, Chicago, Illinois 60604. This facility is open from 8:30 a.m. to 4:30 p.m., Monday through Friday, excluding Federal holidays. We recommend that you contact Danny Marcus, Environmental Engineer, at (312) 353-8781 before visiting the Region 5 office.

In addition to being available in the docket, an electronic copy of each of these documents will be available on the World Wide Web. Following signature by the Assistant Administrator, Office of Air and Radiation, a copy of this notice will be posted on EPA's NSR Web site, under Regulations & Standards, at http://www.epa.gov/nsr.

II. Judicial Review

Under CAA section 307(b), judicial review of this final action is available only by filing a petition for review in the U.S. Court of Appeals for the District of Columbia Circuit on or before May 7, 2010.

Dated: February 26, 2010.
Gina McCarthy,
Assistant Administrator, Office of Air and Radiation.

[FR Doc. 2010-4700 Filed 3-5-10; 8:45 am]

BILLING CODE 6560-50-P